DEPARTMENT OF HOMELAND SECURITY

[Docket No. CISA-2023-0010]

Agency Information Collection Activities: Sector Outreach and Programs Online Meeting Registration Tool

AGENCY: Cybersecurity and Infrastructure Security Agency (CISA), Department of Homeland Security (DHS).

ACTION: 30-Day notice and request for comments; revision; 1670-0019.

SUMMARY: The Infrastructure Security Division (ISD) within Cybersecurity and Infrastructure Security Agency (CISA) will submit the following information collection request (ICR) to the Office of Management and Budget (OMB) for review and clearance in accordance with the Paperwork Reduction Act of 1995. The submission proposes to renew the information collection for an additional three years and update the burden estimates associated with collecting information for the purposes of registration for meetings and events. CISA previously published this information collection request (ICR) in the Federal Register on April 5, 2023 for a 60-day public comment period. No comments were received by CISA. The purpose of this notice is to allow additional 30-days for public comments.

DATES: The comment period for the information collection request published on April, 05, 2023 at 88 FR 20176. Comments are encouraged and will be accepted until September 28, 2023.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Annie Hunziker Boyer, 703-603-5000, CISARegulations@cisa.dhs.gov.

SUPPLEMENTARY INFORMATION: The Critical Infrastructure Protection Act of 2001, 42 U.S.C. 5195c, states that any physical or virtual disruption of the operation of the critical infrastructures of the United States be rare, brief, geographically limited in effect, manageable, and minimally detrimental to the economy, human and government services, and national security of the United States; and that actions necessary to achieve the policy stated be carried out in a public-private partnership involving corporate and non-governmental organizations. On behalf of the DHS, the Cybersecurity and Infrastructure Security Agency's Infrastructure Security Division (CISA ISD) manages the Department's program to protect the Nation's 16 critical infrastructure sectors by implementing the National Infrastructure Protection Plan (NIPP) 2013, Partnering for Critical Infrastructure Security and Resilience. Pursuant to Presidential Policy Directive 21 on Critical Infrastructure Security and Resilience (February 2013), each sector is assigned a Sector-Specific Agency (SSA) to oversee Federal interaction with the array of sector security partners, both public and private. An SSA is responsible for leading a unified public-private sector effort to develop, coordinate, and implement a comprehensive physical, human, and cyber security strategy for its assigned sector. There are six critical infrastructure sectors assigned to CISA ISD, including the Chemical sector. In addition to fulfilling the regulatory obligations set forth by Congress, the CISA Office of Chemical Security coordinates with the builds sustainable partnerships with its public and private sector stakeholders to enable more effective coordination, information sharing, and program development and implementation. These partnerships are sustained through the NIPP Sector Partnership Model.¹

¹ NIPP 2013 Partnering for Critical Infrastructure Security and Resilience, pp 10-12.

Information sharing is a key component of the NIPP Partnership Model, and DHS sponsored conferences are one mechanism for information sharing. To facilitate conference planning and organization. This voluntary information collection tool for online event registration is maintained and leveraged by the Office of Chemical Security within CISA ISD. The information collected with this tool is used to register public and private sector stakeholders for meetings hosted by the Office of Chemical Security, principally the annual Chemical Security Summit. This tool is also used for private sector stakeholders to register their interest in being contacted by chemical security personnel regarding services provided under the voluntary ChemLock security program. The Office of Chemical Security uses the information collected to ensure that sufficient space and resources are available at meetings; to follow up with registrants when required; to develop meeting materials for attendees; and efficiently generate attendee and speaker nametags. Additionally, it enables the Office of Chemical Security to gain a better understanding of the organizations participating in chemical security events, and subsequently also identify which segments of the sector are underrepresented. This then allows for the Office to target these underrepresented sector elements through outreach and awareness initiatives.

The changes to the collection include: changes to the burden costs, annual government costs, and revised and added data fields. In addition to the removal of historically retained fields that collect redundant or unnecessary information, and updating existing fields for accuracy and ease of use, two additional fields has been added:

• `How did you hear of this event,' a field which was included in the original instrument for this collection, and removed in a previous revision, has now been re-added to the instrument.

• A field for the registrant's company website has been added.

The annual burden cost for the collection has increased by $5,751, from $1,802 to $7,553, largely due to an increase in the number of respondents associated with the shift to a hybrid event and updated compensation rates. Additionally, the scope of the collection has increased twofold: (1) the annual Chemical Security Summit, the event with which the calculations for this collection have been historically based, has moved to a hybrid format that allows for a dramatic increase in estimated registration numbers (from 400 previously to 1400), and (2) the utilization of this collection for the voluntary ChemLock program which adds an estimated 200 users per year. The annual government cost for the collection has increased by $53,757, from $8,347 to $62,104, due to the shift to a hybrid event format and the associated increase in the number of registrations, which increased from 1,000 to 7,106.

This is a revision and renewal of an information collection.

OMB is particularly interested in comments that:

1. Evaluate whether the proposed collection of information is necessary for the proper performance of the functions of the agency, including whether the information will have practical utility;

2. Evaluate the accuracy of the agency's estimate of the burden of the proposed collection of information,

3. including the validity of the methodology and assumptions used;

4. Enhance the quality, utility, and clarity of the information to be collected; and

5. Minimize the burden of the collection of information on those who are to respond, including through the use of appropriate automated, electronic, mechanical, or other technological collection techniques or

6. other forms of information technology, e.g., permitting electronic submissions of responses.

Analysis

Agency: Cybersecurity and Infrastructure Security Agency (CISA), Department of Homeland Security (DHS).

Title: Sector Outreach and Programs Online Meeting Registration Tool.

OMB Number: 1670-0019.

Frequency: Annually.

Affected Public: State, Local, Tribal, and Territorial Governments and Private Sector Individuals.

Number of Annualized Respondents: 1,600.

Estimated Time per Respondent: 0.05 hours.

Total Burden Hours: 80 hours.

Total Annualized Respondent Opportunity Cost: $7,553.33.

Total Annualized Respondent Out-of-Pocket Cost: $0.

Total Annualized Government Cost: $62,103.77.

Robert J. Costello,
Chief Information Officer, Department of Homeland Security, Cybersecurity and Infrastructure Security Agency.

[FR Doc. 2023-18554 Filed 8-28-23; 8:45 am]

BILLING CODE 9110-9P-P